DEPARTMENT OF TRANSPORTATION

Federal Highway Administration

Environmental Impact Statement: San Diego and Orange Counties, California

AGENCY: Federal Highway Administration, U.S. Department of Transportation.

ACTION: Notice of Intent.

SUMMARY: The Federal Highway Administration (FHWA), on behalf of the California Department of Transportation (Caltrans), is issuing this notice to advise the public that a Draft Environmental Impact Statement (Draft EIS) will be prepared for a proposed highway project in Orange County and San Diego County, California.

DATES: The formal scoping period has been extended a second time and will occur from November 8, 2019 through February 7, 2020. The deadline for comments is now 5:00 p.m. on February 7, 2020. Two scoping meetings have been held: On Wednesday, November 20, 2019, from 5:00 p.m. to 8:00 p.m. and on Wednesday, December 4, 2019 from 5:00 p.m. to 8:00 p.m.

ADDRESSES: The Wednesday, November 20, 2019 public scoping meeting was held at Norman P. Murray Community Center, 24932 Veterans Way, Mission Viejo, CA 92692. The Wednesday, December 4, 2019 public scoping meeting was held at the Ocean Institute, 24200 Dana Point Harbor Drive, Dana Point, CA 92629.

FOR FURTHER INFORMATION CONTACT: Caltrans District 12, 1750 East 4th Street, Santa Ana, CA 92705, Attn: Env/SCTRE Scoping. Formal scoping comments can also be submitted via email at scoping@SCTRE.org. More information can also be found at the project website at http://www.SCTRE.org.

SUPPLEMENTARY INFORMATION: Effective July 1, 2007, the FHWA assigned, and Caltrans assumed, environmental responsibilities for this project pursuant to 23 U.S.C. 327. Caltrans as the assigned National Environmental Policy Act (NEPA) agency, in cooperation with the Foothill/Eastern Transportation Corridor Agency (F/ETCA), will prepare a Draft EIS on a proposal for a highway improvement project in Orange County and San Diego County, California. The proposed improvements intended to address north-south regional mobility and accommodation of travel demand include the extension of the tolled State Route (SR) 241 lanes to Interstate (I) 5, the extension of Crown Valley Parkway to SR 241, new connections between Ortega Highway, Antonio Parkway, Avery Parkway, and SR-73, new general purpose lanes on I-5, new managed lanes on I-5, or combinations of these preliminary alternatives. Currently, the following alternatives are being considered, ranging from approximately 4 to 22 miles in length:

• Alternative 1/No Build Alternative; taking no action.

• Alternative 13; connect SR 241 to I-5 via a connection from Los Patrones Parkway to La Novia Avenue, I-5 widening and improvements, and the addition of HOT lanes in each direction on I-5

• Alternative 17; connect SR 241 to I-5 via a connection from Los Patrones Parkway to Avenida Vaquero, I-5 widening and improvements, and the addition of HOT lanes in each direction on I-5

• Alternative 14; connect SR 241 to I-5 via a connection from Los Patrones Parkway to Avenida Pico, I-5 widening and improvements, and the addition of HOT lanes in each direction on I-5

• Alternative 11; add I-5 general purpose lanes from I-405 to San Diego County

• Alternative 12; add I-5 HOT/toll lanes from I-405 to San Diego County

• Alternative 9; connect Ortega Highway and Antonio Parkway to Avery Parkway and SR 73

• Alternative 18; connect SR-241 to SR-73 and extend Crown Valley Parkway to SR 241

• Alternative 21; extend Los Patrones Parkway to Avenida La Pata and add HOT lanes in each direction on I-5

• Alternative 22; extend Los Patrones Parkway to Avenida La Pata

• Alternative 23; extend I-5 managed lanes from SR 73 to Basilone Road or from Avenida Pico to Basilone Road (depending on the design option)

Anticipated Federal approvals include permits under the National Pollutant Discharge Elimination System (NPDES), Clean Water Act (CWA) Section 401 Water Quality, CWA Section 404 Nationwide Permit from the United States Army Corps of Engineers (USACE), CWA Section 10 Permit from the USACE, California Fish and Game Code Section 1602 Lake or Streambed Alteration Agreement from the California Department of Fish and Wildlife (CDFW), Section 7 Consultation with the United States Fish and Wildlife Service (USFWS) for listed species under the Federal Endangered Species Act (FESA), CDFW 2080.1 Consistency Determination for listed species under the California Endangered Species Act (CESA), and Coastal Zone Management Act (CZMA) Consistency Determination from the California Coastal Commission (CCC).

Letters describing the proposed action and soliciting comments will be sent to appropriate Federal, State, Participating Agencies, tribal governments, and local agencies, and to private organizations and citizens who have previously expressed or are known to have interest in this proposal. The public scoping process officially began in November 2019. In addition, a public hearing will be held once the Draft EIS is completed. Public notice will be given of the time and place of the meeting and hearing. The Draft EIS will be available for public and agency review and comment prior to the public hearing to ensure that the full range of issues related to this proposed action are addressed and all significant issues are identified, and comments and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: December 16, 2019.
Tashia Clemons,
Director, State Programs, Federal Highway Administration, Sacramento, California.

[FR Doc. 2019-27549 Filed 12-19-19; 8:45 am]

BILLING CODE 4910-22-P